FEDERAL HOUSING FINANCE BOARD

Sunshine Act Notice; Announcing an Open Meeting of the Board

Special Meeting in Observance of the 70th Anniversary of the Federal Home Loan Bank Act

Time and Date: 1 p.m., Thursday, July 18, 2002.

Place: Daniel Patrick Moynihan United States Courthouse, Ceremonial Courtroom, 9th Floor, 500 Pearl Street, New York, New York.

Status: The entire meeting will be open to the public.

Matters to be Considered: • Federal Home Loan Bank of New York Capital Plan.

• Consideration of a Resolution Concerning the Federal Home Loan Bank of New York's Participation in Public Financing for Reconstruction of Lower Manhattan.

• Granting of a Restated Organizational Certificate to Replace the Original Lost in the Attack of September 11, 2001.

Contact Person for More Information: Elaine L. Baker, Secretary to the Board, (202) 408-2837.

James L. Bothwell,
Managing Director.

[FR Doc. 02-17964 Filed 7-12-02; 11:04 am]

BILLING CODE 6725-01-P